DEPARTMENT OF JUSTICE

Notice of Lodging of Consent Decree Under the Clean Water Act

Notice is hereby given that on October 16, 2006, a proposed consent decree in United States v. Detrex Corporation, Inc., Civ. No. 1:06-cv-2482 was lodged with the United States District Court for the Northern District of Ohio.

In this action, the United States seeks civil penalties and injunctive relief for alleged violations of the Clean Water Act (“Act”) and its pertinent regulations at Detrex's chemical manufacturing facility in Ashtabula, Ohio. Specifically, in its Complaint, the United States, on behalf of the United States Environmental Protection Agency (“U.S. EPA”) seeks civil penalties pursuant to Section 309(b) and (d) of the Act, 33 U.S.C. 1319(b) and (d), from Defendant Detrex, for discharging pollutants into navigable waters in excess of its NPDES permit limitations and also failing to accurately monitor and correctly report its discharges to the U.S. EPA and the Ohio Environmental Protection Agency.

Under the proposed Consent Decree, the United States would recover a total of $250,000 plus interest (determined by a Department of Justice financial analyst to be the amount that the corporation can pay). In addition, Detrex will implement specified compliance measures concerning the discharges associated with its chemical manufacturing plant in Ashtabula, Ohio.

The Department of Justice will receive for a period of thirty (30) days from the date of this publication, comments relating to the proposed Consent Decree. Comments should be addressed to the Assistant Attorney General, Environment and Natural Resources Division, P.O. Box 7611, U.S. Department of Justice, Washington, DC 20044-7611, and should refer to United States v. Detrex Corporation. D.J. Ref. 90-5-1-1-08201.

The proposed Consent Decree may be examined at the Office of the United States Attorney for the Northern District of Ohio, 801 West Superior Avenue Suite 400, Cleveland, OH 44113 (contact Asst. U.S. Attorney Steven Paffilas (216-622-3698)), and at U.S. EPA Region 5, 7th Floor Records Center, 77 West Jackson Blvd., Chicago, Illinois 60604 (contact Assoc. Regional Counsel Nicole Cantello (312-2870)).

During the public comment period, the proposed consent decree may also be examined on the following Department of Justice Website, http://www.usdoj.gov/enrd/consent-decree.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone

In requesting a copy from the Consent Decree Library, please enclose a check in the amount of $7.25 (25 cents per page reproduction cost) payable to the U.S. Treasury or, if by email or fax, forward a check in that amount to the Consent Decree Library at the stated address.

William Brighton,
Assistant Chief, Environmental Enforcement Section, Environment and Natural Resources Division.

[FR Doc. 06-9127 Filed 11-8-06; 8:45 am]

BILLING CODE 4410-15-M